DELAWARE RIVER BASIN COMMISSION

Notice of Public Hearing and Business Meeting; November 9 and December 14, 2016

Notice is hereby given that the Delaware River Basin Commission will hold a public hearing on Wednesday, November 9, 2016. A business meeting will be held the following month, on Wednesday, December 14, 2016. The hearing and business meeting are open to the public and will be held at the Washington Crossing Historic Park Visitor Center, 1112 River Road, Washington Crossing, Pennsylvania.

Public Hearing. The public hearing on November 9, 2016 will begin at 1:30 p.m. Hearing items will include draft dockets for the withdrawals, discharges and other water-related projects subject to the Commission's review. The Commission will also accept public input on the persistent dry conditions throughout the basin and how to address them. The Commission would then be prepared, if conditions worsen, to consider a declaration of water supply emergency under section 10.4 of the Compact.

The list of projects scheduled for hearing, including project descriptions, will be posted on the Commission's Web site, www.drbc.net, in a long form of this notice at least ten days before the hearing date. Draft resolutions scheduled for hearing also will be posted at www.drbc.net ten or more days prior to the hearing.

Written comments on matters scheduled for hearing on November 9 will be accepted through 5:00 p.m. on November 10. After the hearing on all scheduled matters has been completed, and as time allows, an opportunity for Open Public Comment will also be provided.

The public is advised to check the Commission's Web site periodically prior to the hearing date, as items scheduled for hearing may be postponed if additional time is deemed necessary to complete the Commission's review, and items may be added up to ten days prior to the hearing date. In reviewing docket descriptions, the public is also asked to be aware that project details commonly change in the course of the Commission's review, which is ongoing.

Public Meeting. The public business meeting on December 14, 2016 will begin at 10:30 a.m. and will include: adoption of the Minutes of the Commission's September 14, 2016 business meeting, announcements of upcoming meetings and events, a report on hydrologic conditions, reports by the Executive Director and the Commission's General Counsel, and consideration of any items for which a hearing has been completed or is not required.

After all scheduled business has been completed and as time allows, the meeting will also include up to one hour of Open Public Comment.

There will be no opportunity for additional public comment for the record at the December 14 business meeting on items for which a hearing was completed on November 9 or a previous date. Commission consideration on December 14 of items for which the public hearing is closed may result in approval of the item (by docket or resolution) as proposed, approval with changes, denial, or deferral. When the Commissioners defer an action, they may announce an additional period for written comment on the item, with or without an additional hearing date, or they may take additional time to consider the input they have already received without requesting further public input. Any deferred items will be considered for action at a public meeting of the Commission on a future date.

Advance Sign-Up for Oral Comment. Individuals who wish to comment on the record during the public hearing on November 9 or to address the Commissioners informally during the Open Public Comment portion of the meeting on either November 9 or December 14 as time allows, are asked to sign up in advance by contacting Ms. Paula Schmitt of the Commission staff, at paula.schmitt@drbc.nj.gov.

Addresses for Written Comment. Written comment on items scheduled for hearing may be delivered by hand at the public hearing or: By hand, U.S. Mail or private carrier to: Commission Secretary, P.O. Box 7360, 25 State Police Drive, West Trenton, NJ 08628; by fax to Commission Secretary, DRBC at 609-883-9522; or by email (preferred) to paula.schmitt@drbc.nj.gov. If submitted by email, written comments on a docket should also be sent to Mr. David Kovach, Manager, Project Review Section at david.kovach@drbc.nj.gov.

Accommodations for Special Needs. Individuals in need of an accommodation as provided for in the Americans with Disabilities Act who wish to attend the informational meeting, conference session or hearings should contact the Commission Secretary directly at 609-883-9500 ext. 203 or through the Telecommunications Relay Services (TRS) at 711, to discuss how we can accommodate your needs.

Additional Information, Contacts. Additional public records relating to hearing items may be examined at the Commission's offices by appointment by contacting Carol Adamovic, 609-883-9500, ext. 249. For other questions concerning hearing items, please contact Judith Scharite, Project Review Section assistant at 609-883-9500, ext. 216.

Dated: October 25, 2016.
Pamela M. Bush,
Commission Secretary and Assistant General Counsel.

[FR Doc. 2016-26176 Filed 10-28-16; 8:45 am]

BILLING CODE 6360-01-P